ENVIRONMENTAL PROTECTION AGENCY

[ER-FRL-6688-2]

Environmental Impacts Statements; Notice of Availability

Responsible Agency: Office of Federal Activities, General Information (202) 564-7167 or http://www.epa.gov/compliance/nepa/.

Weekly receipt of Environmental Impact Statements filed 6/11/2007 through 6/15/2007.

Pursuant to 40 CFR 1506.9.

EIS No. 20070248, Draft EIS, SFW, WI, Trempealeau National Wildlife Refuge Comprehensive Conservation Plan, Implementation, located within the Mississippi River Valley, Buffalo and Trempealeau Counties, WI, Comment Period Ends: 08/10/2007, Contact: Victoria Hirschboeck 608-539-2311.

EIS No. 20070249, Final EIS, AFS, WA, Natapoc Ridge Restoration Project, To Improve Forest Health and Sustainability, and Reduce Wildfire and Hazardous Fuels, Wenatchee River Ranger District, Okanogan-Wenatchee National Forest, Chelan County, WA, Wait Period Ends: 7/23/2007, Contact: Steve Willet 509-548-6977.

EIS No. 20070250, Final EIS, NPS, PA, Flight 93 National Memorial, Designation of Crash Site to Commemorate the Passengers and Crew of Flight 93, Implementation, Stonycreek Township, Somerset County, PA, Wait Period Ends: 07/23/2007, Contact: Jeff Reinbold 814-443-4557.

EIS No. 20070251, Final EIS, USA, CO, Pinon Canyon Maneuver Site (PCMS) Transformation Program, Implementation, Base Realignment and Closure Activities, Fort Carson, Las Animas, Otero and Huerfano Counties, CO, Wait Period Ends: 07/23/2007, Contact: Karen Wilson 703-602-2861.

EIS No. 20070252, Final EIS, USA, CO, Fort Carson Transformation Program, Implementation, Base Realignment and Closure Activities, Fort Carson, El Paso, Pueblo and Fremont Counties, CO, Wait Period Ends: 07/23/2007, Contact: Karen Wilson 703-602-2861.

EIS No. 20070253, Draft EIS, BIA, NM, Desert Rock Energy Project, Construction and Operation of Coal-Fired Power Plant, Right-of-Way Permit, Navajo Nation Indian Reservation, San Juan County, NM, Comment Period Ends:08/20/2007 Contact: Harrilene Yazzie 505-863-8286.

EIS No. 20070254, Final Supplement, TVA, TN, Watts Bar Nuclear Plant Unit 2, Completion and Operation, Updated Information on Extensive Environmental Record, Rhea County, TN, Wait Period Ends: 07/23/2007, Contact: Ruth M. Horton 865-632-3719.

EIS No. 20070255, Draft EIS, BLM, NV, Kane Springs Valley Groundwater Development Project, To Construct Infrastructure Required to Pump and Convey Groundwater Resources, Right-of-Way Application, Lincoln County Water District, Lincoln County, NV, Comment Period Ends: 08/20/2007, Contact: Penny Wood 775-861-6466.

EIS No. 20070256, Draft EIS, AFS, 00, Umatilla National Forest Invasive Plants Treatment, Propose to Treat Invasive Plants and Restore Treated Sites, Asotin, Columbia, Garfield, Walla Walla Counties, WA and Grant, Morrow, Umatilla, Union, Wallowa, Wheeler Counties, OR, Comment Period Ends: 08/07/2007, Contact: Glen Westland 541-278-3869.

EIS No. 20070257, Draft EIS, FHW, MN, Tier 1 DEIS—Trunk Highway (TH) 41 Minnesota River Crossing, Construction of a New Minnesota River Crossing Connecting US Highway 169 to New U.S. Highway 212, U.S. Army COE Section 10 and 404 Permits, Scott and Carver Counties, MN, Comment Period Ends:08/10/2007, Contact: Cheryl Martin 651-291-6120.

EIS No. 20070258, Final EIS, COE, MN, Minnesota Steel Project, Construction and Operation of an Open Pit Taconite Mine Facilities, Concentrator, Pellet Plant, Direct Reduced Iron Plant and Steel Mill Project, located west of Nashwauk, Itasca County, MN, Wait Period Ends: 07/23/2007, Contact: Jon K. Ahlness 651-290-5381.

Amended Notices

EIS No. 20050437, Final EIS, AFS, NM, WITHDRAWN—Tajique Watershed Restoration Project, Proposes Fuel Reduction and Restore Forest Health, Cibola National Forest, Torrance County, NM, Wait Period Ends: 11/21/2005, Contact: Vicky Estrada 505-847-2990.

Revision of FR Notice Published 10/21/2005: Officially

Withdrawn by the preparing agency by letter dated 05/22/2007.

EIS No. 20050533, Draft EIS, AFS, WV, Allegheny Wood Product Easement, Proposes to Convey an Easement of Right-of-Way along the Railroad Grade located in the Blackwater Canyon Area, Monongahela National Forest, Tucker County, WV, Comment Period Ends: 07/16/2007, Contact: Bill Shields 304-636-1800 Ext 287.

Revision of FR Notice Published 12/23/2005: Reopening the Comment Period from 02/06/2006 to 07/16/2007.

EIS No. 20060067, Draft EIS, GSA, CA, Cancelled—Los Angeles Federal Bureau of Investigation (FBI) Federal Building, Consolidation of FBI Field Office Headquarters and 11 other Satellite Offices, Federal Central District, Los Angeles, CA, Comment Period Ends: 04/24/2006, Contact: Morris Angell 415-522-3473.

Revision of FR Notice Published on 03/10/2006: Officially Cancelled by the preparing agency by letter dated 05/23/2007.

Dated: June 19, 2007.
Robert W. Hargrove,
Director, NEPA Compliance Division, Office of Federal Activities.

[FR Doc. E7-12131 Filed 6-21-07; 8:45 am]

BILLING CODE 6560-50-P